DEPARTMENT OF ENERGY

Federal Energy Regulatory Commission

Combined Notice of Filings #1

Take notice that the Commission received the following electric corporate filings:

Docket Numbers: EC15-90-000.

Applicants: Lumens Energy Supply LLC, Aequitas Energy, Inc.

Description: Amendment to March 9, 2015 Joint Application under Section 203 of the Federal Power Act of Lumens Energy Supply LLC, et al.

Filed Date: 7/2/15.

Accession Number: 20150702-5263.

Comments Due: 5 p.m. ET 7/13/15.

Take notice that the Commission received the following electric rate filings:

Docket Numbers: ER12-2499-013; ER12-2498-013; ER13-764-013; ER11-4055-005; ER12-1566-007; ER14-1548-005; ER12-1470-005; ER11-3987-008; ER10-1290-006; ER14-474-003; ER14-1775-003; ER10-3026-005.

Applicants: Alpaugh North, LLC, Alpaugh 50, LLC, CED White River Solar, LLC, Copper Mountain Solar 1, LLC, Copper Mountain Solar 2, LLC, Copper Mountain Solar 3, LLC, Energia Sierra Juarez U.S., LLC, Mesquite Solar 1, LLC, San Diego Gas & Electric Company, Sempra Generation, LLC, SEP II, LLC, Termoelectrica U.S. LLC.

Description: Notice of Non-Material Change in Status of the SDG&E Sellers.

Filed Date: 7/2/15.

Accession Number: 20150702-5267.

Comments Due: 5 p.m. ET 7/23/15.

Docket Numbers: ER15-2104-000.

Applicants: California Independent System Operator Corporation

Description: § 205(d) Rate Filing: 2015-07-02 Amendment No. 2 to Riverside MSSA to be effective 9/1/2015.

Filed Date: 7/2/15.

Accession Number: 20150702-5247.

Comments Due: 5 p.m. ET 7/23/15.

Docket Numbers: ER15-2105-000.

Applicants: DTE Electric Company.

Description: § 205(d) Rate Filing: Triennial Market Power Tariff Update Filing to be effective 7/7/2015.

Filed Date: 7/6/15.

Accession Number: 20150706-5104.

Comments Due: 5 p.m. ET 9/4/15.

Docket Numbers: ER15-2106-000.

Applicants: DTE Energy Trading, Inc.

Description: § 205(d) Rate Filing: Triennial Market Power Filing Tariff Update to be effective 7/7/2015.

Filed Date: 7/6/15.

Accession Number: 20150706-5106.

Comments Due: 5 p.m. ET 9/4/15.

Docket Numbers: ER15-2107-000.

Applicants: DTE Pontiac North, LLC.

Description: § 205(d) Rate Filing: Triennial Market Power Tariff Update to be effective 7/7/2015.

Filed Date: 7/6/15.

Accession Number: 20150706-5109.

Comments Due: 5 p.m. ET 9/4/15.

Docket Numbers: ER15-2108-000.

Applicants: DTE Stoneman, LLC.

Description: § 205(d) Rate Filing: Triennial Market Power Tariff Updates to be effective 7/7/2015.

Filed Date: 7/6/15.

Accession Number: 20150706-5110.

Comments Due: 5 p.m. ET 9/4/15.

Docket Numbers: ER15-2109-000.

Applicants: St. Paul Cogeneration, LLC.

Description: § 205(d) Rate Filing: Triennial Market Power Tariff Updates to be effective 7/7/2015.

Filed Date: 7/6/15.

Accession Number: 20150706-5112.

Comments Due: 5 p.m. ET 9/4/15.

Docket Numbers: ER15-2110-000.

Applicants: Midcontinent Independent System Operator, Inc., Ameren Illinois Company.

Description: § 205(d) Rate Filing: 2015-07-06_SA 2815 Ameren-Prairie Power Construction Agreement (Tolono) to be effective 6/22/2015.

Filed Date: 7/6/15.

Accession Number: 20150706-5114.

Comments Due: 5 p.m. ET 7/27/15.

Docket Numbers: ER15-2111-000.

Applicants: Midcontinent Independent System Operator, Inc., Ameren Illinois Company.

Description: § 205(d) Rate Filing: 2015-07-06_SA 2816 Ameren-Praire Power Construction Agreement (St. Joseph) to be effective 6/22/2015.

Filed Date: 7/6/15.

Accession Number: 20150706-5117.

Comments Due: 5 p.m. ET 7/27/15.

Docket Numbers: ER15-2112-000.

Applicants: Cobb Electric Membership Corporation.

Description: § 205(d) Rate Filing: Triennial market power update to be effective 7/7/2015.

Filed Date: 7/6/15.

Accession Number: 20150706-5184.

Comments Due: 5 p.m. ET 9/4/15.

Take notice that the Commission received the following electric securities filings:

Docket Numbers: ES15-36-000.

Applicants: Golden Spread Electric Cooperative, Inc.

Description: Amendment to June 19, 2015 Application under Section 204 of the Federal Power Act for Authorization to Issue Securities of Golden Spread Electric Cooperative, Inc.

Filed Date: 7/2/15.

Accession Number: 20150702-5262.

Comments Due: 5 p.m. ET 7/16/15.

Take notice that the Commission received the following qualifying facility filings:

Docket Numbers: QF15-875-000.

Applicants: Erving Industries, Inc.

Description: Form 556 of Erving Industries, Inc.

Filed Date: 6/30/15.

Accession Number: 20150630-5480.

Comments Due: None Applicable.

Docket Numbers: QF15-877-000.

Applicants: Winston-Salem/Forsyth County Utility Commission

Description: Form 556 of Winston-Salem/Forsyth County Utility Commission.

Filed Date: 7/2/15.

Accession Number: 20150702-5264.

Comments Due: None Applicable.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2015.
Nathaniel J. Davis, Sr.,
Deputy Secretary.

[FR Doc. 2015-16879 Filed 7-9-15; 8:45 am]

BILLING CODE 6717-01-P